DEPARTMENT OF DEFENSE

Office of the Secretary

U.S. Nuclear Command and Control System Comprehensive Review Advisory Committee

AGENCY: Department of Defense.

ACTION: Notice of meeting; Amendment.

SUMMARY: On August 11, 2008 (73 FR 46605), the Department of Defense announced a closed meeting of the U.S. Nuclear Command and Control System Comprehensive Review Advisory Committee. This notice is being published to announce changes in the time, location and agenda of the meeting.

DATES: September 3, 2008 (0830-1700) and September 4, 2008 (0800-1730).

ADDRESSES: U.S. Strategic Command Headquarters Conference Room, Offutt AFB, NB.

FOR FURTHER INFORMATION CONTACT: Mr. William L. Jones, (703) 681-8681, U.S. Nuclear Command and Control System Support Staff (NSS), Skyline 3, 5201 Leesburg Pike, Suite 500, Falls Church, VA 22041.

SUPPLEMENTARY INFORMATION:

Agenda: Sep 3, 2008: Offutt AFB/HQ USSTRATCOM—Force Execution

Time | Topic | Presenter
8:30 a.m. | NMCS Capabilities Brief | Joint Staff
9:30 a.m. | NMCS Roadmap | Joint Staff/USAF
10 a.m. | Nuclear Forces Connectivity (DC2N concept, Thin-line funding and projected capabilities) | OASD (NII)/DISA
10:30 a.m. | Oversight of NCCS Assets | OASD (NII)
11:30 a.m. | Lunch | Club
1 p.m. | Tour GOC, Air Room | STRATCOM
2 p.m. | Briefing on OPLAN | USSTRATCOM
3 p.m. | DOD Exercise Results | JS/STRATCOM
4 p.m. | Executive Session
5 p.m. | Adjourn

Agenda: Sep 4, 2008: Offutt AFB/HQ USSTRATCOM—Force Execution

Time | Topic | Presenter
8 a.m. | Tour NMCS aircraft, get capabilities brief | Crew
9 a.m. | NATO NC2 Capabilities & Procedures | EUCOM
10:30 a.m. | Integrated Tactical Warning/Attack Assessment (Modernization Plans, C2 Plans, issues, capabilities gaps) | AFSPC
11:30 a.m. | Communication Satellite Transition Plans | Air Staff
12 p.m. | Lunch
1 p.m. | Nuclear Technical Performance Criteria (NTPC) | J Staff by VTC
3 p.m. | National Military Command System | J Staff by VTC2
4 p.m. | POLO Hat Program (results/trends) | J Staff by VTC
5 p.m. | Executive Session
5:30 p.m. | Adjourn

Dated: August 13, 2008.
Patricia L. Toppings,
OSD Federal Register Liaison Officer, Department of Defense.

[FR Doc. E8-19498 Filed 8-21-08; 8:45 am]

BILLING CODE 5001-06-P